DEPARTMENT OF DEFENSE

Department of the Navy

Intent to Grant Exclusive Patent License; T-Wave Corporation

AGENCY: Department of the Navy, DOD.

ACTION: Notice.

SUMMARY: The Department of the Navy hereby gives notice of its intent to grant to T-Wave Corporation, a revocable, nonassignable, exclusive license to practice worldwide the Government-owned inventions described in U.S. Patent No. 6,094,599 issued 25 July 2000, entitled “RF Diathermy and Faradic Muscle Stimulation”; in the field of Body-Friendly Radio-Frequency (RF) warming devices.

DATES: Anyone wishing to object to the grant of this license must file written objections along with supporting evidence, if any, not later than February 23, 2001.

ADDRESSES: Written objections are to be filed with the Office of Technology Transfer, Naval Medical Research Center, 503 Robert Grant Ave., Silver Spring, MD 20910-7500.

FOR FURTHER INFORMATION CONTACT: Dr. Charles Schlagel, Director, Office of Technology Transfer, Naval Medical Research Center, 503 Robert Grant Ave., Silver Spring, MD 20910-7500, telephone (301) 319-7428.

(Authority: 35 U.S.C. 207, 209, 37 CFR Part 404.)

Dated: January 19, 2001.
J.L. Roth,
Lieutenant Commander, Judge Advocate General's Corps, U.S. Navy, Federal Register Liaison Officer.

[FR Doc. 01-3226 Filed 2-7-01; 8:45 am]

BILLING CODE 3810-FF-U